DEPARTMENT OF HOMELAND SECURITY

Coast Guard

33 CFR Part 165

[Docket No. USCG-2011-0800]

RIN 1625-AA87

Security Zones, 2011 Asia-Pacific Economic Cooperation Conference, Oahu, HI

AGENCY: Coast Guard, DHS.

ACTION: Temporary interim rule; request for comments.

SUMMARY: The Coast Guard is establishing four temporary security zones on the navigable waters of Oahu's southern and western shores in support of the Asia-Pacific Economic Cooperation (APEC) conference in Oahu, Hawaii. The establishment of these security zones is necessary to ensure the safety of all APEC attendees to include the President of the United States, as well as numerous foreign dignitaries and senior government officials. Entry into the temporary security zones established by this rule is prohibited unless authorized by the Coast Guard Captain of the Port, Honolulu, or her designated representatives.

DATES: This rule will be effective from 11 p.m. HST on November 9, 2011 through 11 p.m. HST on November 16, 2011. The § 165.T14-0800 (a)(2) and (4) security zones, West Waikiki and Ala Wai Harbor and Canal, will be enforced from 11 p.m. HST on November 9, 2011 through 11 p.m. HST on November 16, 2011. The § 165.T14-0800 (a)(1) security zone, Ko'olina Offshore, will be enforced from 11 p.m. HST on November 12, 2011, to 11 p.m. HST on November 13, 2011. The § 165.T14-0800 (a)(3) security zone, East Waikiki, will be enforced from 12 a.m. HST to 11 p.m. HST on November 12, 2011.

Comments and related material must be submitted to the Coast Guard no later than October 17, 2011.

ADDRESSES: You may submit comments identified by docket number USCG-2011-0800 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this interim rule, call or e-mail Lt. Scott O. Whaley, U.S. Coast Guard; telephone 808-522-8264 (ext. 352), e-mail Scott.O.Whaley@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2011-0800), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Search All” and insert “USCG-2011-0800” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-0800” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. Insufficient time exists prior to this event to facilitate requests for a public meeting. If you object to this decision however, you may submit a request for one by October 17, 2011 using one of the four methods specified under ADDRESSES. Please explain in detail why you believe a public meeting would be necessary in this case. If we then determine that one would aid this rulemaking, we will hold one at a time and place announced by a later notice in the Federal Register.

Basis and Purpose

From November 9, 2011, through November 16, 2011, the President of the United States, various foreign dignitaries, members of their official parties, and other senior government officials will be attending the 2011 APEC conference in Honolulu, Hawaii. APEC is a multi-national association of economies and their senior leadership from the Asia-Pacific region working together to reduce trade barriers and facilitate business interactions between member nations. The conference is located adjacent to U.S. navigable waters in the Honolulu Captain of the Port Zone. Accordingly, the U.S. Coast Guard is establishing these security zones in order to maintain optimum security for this high visibility event and to ultimately protect the participants of this event from all possible threats associated with vessels and persons in the water. Entry of persons or vessels into these security zones will be prohibited unless authorized by the Captain of the Port (COTP) Honolulu.

Discussion of Temporary Interim Rule

This security zone temporary interim rule will be effective from 11 p.m. HST on November 9, 2011 through 11 p.m. HST on November 16, 2011. This security zone covers four areas located within the Honolulu Captain of the Port Zone (See 33 CFR 3.70-10)

The first area is designated as the Ko'olina Offshore Zone and covers all waters creating a box shape, encompassed by a line extending 1500 yards seaward from 21°19′23.63″ N, 158°07′20.83″ W; to 21°18′49.59″ N, 158°07′52.68″ W; then north to 21°21′17.96″ N, 158°08′36.75″ W; then due east to 21°21′18.70″ N, 158°07′49.15″ W; then along the shoreline back to the starting point. The Ko'olina Offshore Zone does not include the entrance of Barbers Point Harbor Channel or the four lagoons adjacent to the Ko'olina Resort. The Ko'olina Offshore Zone will be enforced from 11 p.m. HST on November 12, 2011, to 11 p.m. HST on November 13, 2011.

The second area is designated as the West Waikiki Zone and includes all waters creating a box-like shape offshore of Waikiki Beach and is encompassed by a line connecting the following points: Beginning at 21°16′40.33″ N, 157°50′01.26″ W; to 21°16′10.20″ N, 157°50′37.55″ W; to 21°16′29.28″ N, 157°50′56.69″ W; to 21°16′53.95″ N, 157°50′29.10″ W; then along the shoreline back to the starting point. The West Waikiki Zone includes the offshore area adjacent to the Hilton Hawaiian Village Resort and the Fort DeRussy military reservation. The West Waikiki Zone does not include the two lagoons adjacent to the Hilton Hawaiian Village Resort. The West Waikiki Zone will be enforced from 11 p.m. HST on November 9, 2011 to 11 p.m. HST on November 16, 2011.

A third area is designated as the East Waikiki Zone and includes all waters creating a box-like shape offshore of Waikiki Beach and is encompassed by a line connecting the following points: beginning at 21°16′36.20″ N, 157°49′46.91″ W; to 21°16′05.04″ N, 157°50′20.56″ W; to 21°16′14.87″ N, 157°50′30.98″ W; to 21°16′40.33″ N, 157°50′01.26″ W; then along the shoreline back to the starting point. The East Waikiki Zone includes the offshore area adjacent to the Sheraton Waikiki Hotel and the Outrigger Waikiki Hotel. The East Waikiki Zone will be enforced from 12 a.m. HST to 11 p.m. HST on November 12, 2011.

A fourth area is designated as the Ala Wai Harbor and Canal Zone. It includes a section of the Ala Wai Canal extending from the entrance to the canal in Ala Wai harbor to a point 15 yards northeast of the McCully Bridge and also includes all Ala Wai Harbor waters encompassing the Harbor Working Docks, the “Front Row” along Holomoana Ave, the Loading Dock, G Dock, F Dock, the 400 Row, the south face of X Dock and D Dock. See Example 1 in the docket for an illustration of the Ala Wai harbor section of this security zone. The Ala Wai Harbor and Canal Zone will be enforced from 11 p.m. HST on November 9, 2011 to 11 p.m. HST on November 16, 2011.

A graphic labeled “Illustration of APEC 2011 security zones” is available via http://www.regulations.gov in docket USCG-2011-0800. It provides a graphical representation of the four security zones discussed above that are established by this temporary interim rule.

In accordance with the general regulations in 33 CFR part 165, subpart D, no person or vessel will be permitted to transit into or remain in the zone except for those authorized support vessels, aircraft and support personnel, or other personnel or vessels authorized by the Captain of the Port or the District Commander. Any Coast Guard commissioned, warrant, or petty officer, or other Captain of the Port representative permitted by law, may enforce the zone. Vessels, aircraft, or persons in violation of this rule will be subject to the penalties set forth in 33 U.S.C. 1232 and 50 U.S.C. 192.

Regulatory Analyses

We did not publish a notice of proposed rulemaking (NPRM) for this temporary interim rule. Under 5 U.S.C. 553(b)(B), the Coast Guard finds that good cause exists for not publishing an NPRM. Due to the sensitive nature of this highly visible event, sufficient notice of the zone locations was not released in time to adequately complete the NPRM rulemaking. This event is a matter of national security and the changing nature of the event has required flexibility among all parties. Issuing an NPRM is impracticable due to the nature of the event. This temporary interim rule, however, is being used to provide a post-promulgation comment period in advance of the event given the limited time remaining. It would be contrary to the public interest to delay issuing an effective rule. Post-promulgation comments received on this temporary interim rule may allow the COTP to issue an improved temporary final rule, but issuing the interim rule now ensures that an effective rule will be in place to provide the necessary security measures required for the Asia-Pacific Economic Cooperation conference held on Oahu.

We developed this temporary interim rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. The Coast Guard expects the economic impact of this rule to be so minimal that a full Regulatory Evaluation under the regulatory policies and procedures of DHS is unnecessary. This conclusion is based on the limited duration of the zone and the limited geographic area affected by it. Furthermore, the general public will be permitted to transit the security zone as necessary but will not be permitted to loiter.

Small Entities

Under the Regulatory Flexibility Act (5 U.S.C. 601-612), we have considered whether this temporary interim rule will have a significant economic impact on a substantial number of small entities. The term “small entities” comprises small businesses, not-for-profit organizations that are independently owned and operated and are not dominant in their fields, and governmental jurisdictions with populations of less than 50,000.

The Coast Guard certifies under 5 U.S.C. 605(b) that this temporary interim rule will not have a significant economic impact on a substantial number of small entities.

This temporary interim rule could affect the following entities, some of which might be small entities: the owners or operators of vessels for hire intending to transit or operate in the Ala Wai Harbor and Canal and West Waikiki Security Zones from November 9, 2011 to November 16, 2011; the owners or operators of vessels for hire intending to transit or operate in the East Waikiki Security Zone on November 12, 2011; and the owners or operators of vessels for hire intending to transit or operate in the Ko'olina Security Zone on November 13, 2011.

These security zones will not have a significant economic impact on a substantial number of small entities for the following reasons: The security zones will be activated and thus subject to enforcement for a period of no longer than seven (7) days and will not affect vessels transiting 1500 yards (or more) offshore from the Sheraton Waikiki to 1500 yards south-southwest from the Ala Wai Harbor breakwater. It also will not affect vessels transiting or operating outside 1500 yards west from Kahe Point Beach Park to 1500 yards southwest from Barbers Point Harbor Channel, not including the entrance to Barbers Point Harbor.

If you think that your business, organization, or governmental jurisdiction qualifies as a small entity and that this rule will have a significant economic impact on it, please submit a comment (see ADDRESSES) explaining why you think it qualifies and how and to what degree this rule will economically affect it.

Assistance for Small Entities

Under section 213(a) of the Small Business Regulatory Enforcement Fairness Act of 1996 (Pub. L. 104-121), we want to assist small entities in understanding this temporary interim rule so that they can better evaluate its effects on them and participate in the rulemaking. If the rule will affect your small business, organization, or governmental jurisdiction and you have questions concerning its provisions or options for compliance, please contact LT Scott O. Whaley at (808) 522-8264 ext. 352. The Coast Guard will not retaliate against small entities that question or complain about this temporary interim rule or any policy or action of the Coast Guard.

Collection of Information

This temporary interim rule will call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this temporary interim rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this temporary interim rule will not result in such an expenditure, we do discuss the effects of this rule elsewhere in this preamble.

Taking of Private Property

This temporary interim rule will not cause a taking of private property or otherwise have taking implications under Executive Order 12630, Governmental Actions and Interference with Constitutionally Protected Property Rights.

Civil Justice Reform

This temporary interim rule meets applicable standards in sections 3(a) and 3(b)(2) of Executive Order 12988, Civil Justice Reform, to minimize litigation, eliminate ambiguity, and reduce burden.

Protection of Children

We have analyzed this temporary interim rule under Executive Order 13045, Protection of Children from Environmental Health Risks and Safety Risks. This rule is not an economically significant rule and will not create an environmental risk to health or risk to safety that might disproportionately affect children.

Indian Tribal Governments

This temporary interim rule does not have tribal implications under Executive Order 13175, Consultation and Coordination with Indian Tribal Governments, because it will not have a substantial direct effect on one or more Indian tribes, on the relationship between the Federal Government and Indian tribes, or on the distribution of power and responsibilities between the Federal Government and Indian tribes.

Energy Effects

We have analyzed this temporary interim rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This temporary interim rule does not use technical standards. Therefore, we did not consider the use of voluntary consensus standards.

Environment

We have analyzed this temporary interim rule under Department of Homeland Security Management Directive 023-01 and Commandant Instruction M16475.lD, which guide the Coast Guard in complying with the National Environmental Policy Act of 1969 (NEPA) (42 U.S.C. 4321-4370f), and have made a determination that this action is one of a category of actions which do not individually or cumulatively have a significant effect on the human environment. This rule is categorically excluded, under figure 2-1, paragraph (34)(g), of the Instruction. We seek any comments or information that may lead to the discovery of a significant environmental impact from this temporary interim rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub L. 107-295, 116 Stat. 2064; Department of Homeland Security Delegation No. 0170.1.

2. Add temporary § 165.T14-0800 to read as follows:

§ 165.T14-0800 Security Zones; 2011 Asia-Pacific Economic Cooperation Conference, Oahu, HI.

(a) Locations. The following areas, from the surface of the water to the ocean floor, are security zones.

(1) Ko'olina Offshore Zone. All waters encompassed by a line extending 1500 yards seaward from 21°19′23.63″ N, 158°07′20.83″ W; to 21°18′49.59″ N, 158°07′52.68″ W; then north to 21°21′17.96″ N, 158°08′36.75″ W; then due east to 21°21′18.70″ N, 158°07′49.15″ W; then along the shoreline back to the starting point. This security zone does not include the entrance of Barbers Point Harbor Channel or the four lagoons adjacent to the Ko'olina Resorts.

(2) West Waikiki Zone. All waters offshore of Waikiki Beach encompassed by a line connecting the following points: beginning at 21°16′40.33″ N, 157°50′01.26″ W; to 21°16′10.20″ N, 157°50′37.55″ W; to 21°16′29.28″ N, 157°50′56.69″ W; to 21°16′53.95″ N, 157°50′29.10″ W; then along the shoreline back to the starting point. The West Waikiki Zone includes the offshore area adjacent to the Hilton Hawaiian Village Resort and the Fort DeRussy military reservation. The West Waikiki Zone does not include the two lagoons adjacent to the Hilton Hawaiian Village Resort.

(3) East Waikiki Zone. All waters offshore of Waikiki Beach encompassed by a line connecting the following points: Beginning at 21°16′36.20″ N, 157°49′46.91″ W; to 21°16′05.04″ N, 157°50′20.56″ W; to 21°16′14.87″ N, 157°50′30.98″ W; to 21°16′40.33″ N, 157°50′01.26″ W; then along the shoreline back to the starting point. The East Waikiki Zone includes the offshore area adjacent to the Sheraton Waikiki Hotel and the Outrigger Waikiki Hotel.

(4) Ala Wai Harbor and Canal Zone. All waters, including a section of the Ala Wai Canal, extending from the entrance to the canal in Ala Wai harbor to a point 15 yards northeast of the McCully Bridge and also including all Ala Wai Harbor waters encompassing the Harbor Working Docks, the “Front Row” along Holomoana Ave, the Loading Dock, G Dock, F Dock, the 400 Row, the south face of X Dock and D Dock.

Note to paragraph (a)(4): See Example 1 in http://www.regulations.gov docket USCG-2011-0800 for an illustration of the Ala Wai harbor section of this paragraph (a)(4) security zone and clarification as to the docks encompassed by this zone.

(b) Definitions. As used in this section, designated representative means any Coast Guard commissioned, warrant, or petty officer who has been authorized by the Captain of the Port Honolulu to assist in enforcing the security zones described in paragraph (a) of this section.

(c) Regulations. The general security zone regulations found in 33 CFR part 165, subpart D, apply to the security zones created by this temporary section.

(1) All persons are required to comply with the general regulations governing security zones found in 33 CFR 165.33.

(2) Entry into or remaining in this zone is prohibited unless authorized by the Coast Guard Captain of the Port Honolulu.

(3) Persons desiring to transit the security zones identified in paragraph (a) of this section may contact the Captain of the Port at Command Center telephone number (808) 842-2600 and (808) 842-2601, fax (808) 842-2624 or on VHF channel 16 (156.8 Mhz) to seek permission to transit the zones. If permission is granted, all persons and vessels must comply with the instructions of the Captain of the Port Honolulu or his designated representative and proceed at the minimum speed necessary to maintain a safe course while within the zone.

(4) Enforcement. The U.S. Coast Guard may be assisted in the patrol and enforcement of the zones by Federal, State, and local agencies.

Dated: September 22, 2011.
J.M. Nunan,
Captain, U.S. Coast Guard, Captain of the Port Honolulu.

[FR Doc. 2011-25855 Filed 10-5-11; 8:45 am]

BILLING CODE 9110-04-P